FEDERAL COMMUNICATIONS COMMISSION

47 CFR Part 27

[GN Docket No. 01-74; FCC 01-364]

Reallocation and Service Rules for the 698-746 MHz Spectrum Band (Television Channels 52-59)

AGENCY: Federal Communications Commission.

ACTION: Final rule; announcement of effective date.

SUMMARY: The Commission adopted new rules on the reallocation and service rules for the 698-746 MHz spectrum band (Lower 700 MHz Band). Certain rules contained new and modified information collection requirements and were published in the Federal Register on February 6, 2002. This document announces the effective date of the published rules.

DATES: The amendment to § 27.50 published at 67 FR 5511, February 6, 2002, became effective on July 30, 2002.

FOR FURTHER INFORMATION CONTACT: Nancy J. Brooks, Office of Engineering and Technology, Policy and Rules Division, (202) 418-2454.

SUPPLEMENTARY INFORMATION: On July 30, 2002, the Office of Management and Budget (OMB) approved the information collection requirements contained in Section 27.50 pursuant to OMB Control No. 3060-1008. Accordingly, the information collection requirements contained in these rules became effective on July 30, 2002.

Federal Communications Commission
William F. Caton,
Deputy Secretary.

[FR Doc. 03-22069 Filed 8-27-03; 8:45 am]

BILLING CODE 6712-01-P